NUCLEAR REGULATORY COMMISSION

Standard Review Plan (NUREG-0800), Chapter 13.0, “Conduct of Operations,” Sections 13.1.2-13.1-3, “Operating Organization,” Revision 5, and Associated NUREG-1791, “Guidance for Assessing Exemption Requests From The Nuclear Power Plant Licensed Operator Staffing Requirements Specified in 10 CFR 50.54(m),” Dated July, 2005: Availability of NUREG Documents

AGENCY: Nuclear Regulatory Commission.

ACTION: Notice of availability.

SUMMARY: The Nuclear Regulatory Commission is announcing the completion and availability of two NUREG documents: (1) NUREG-0800, Standard Review Plan, Chapter 13.0, “Conduct of Operations,” Sections 13.1-2, 13.1-3, “Operating Organization,” Rev. 5, dated July 2005; and, (2) NUREG-1791, “Guidance for Assessing Exemption Requests From the Nuclear Power Plant Licensed Operator Staffing Requirements Specified in 10 CFR 50.54(m),” dated July, 2005.

ADDRESSES: Copies of these NUREG documents may be purchased from the Superintendent of Documents, U.S. Government Printing Office, P.O. Box 37082, Washington, DC 20402-9328; http://www.access.gpo.gov/su_docs; 202-512-1800 or The National Technical Information Service, Springfield, Virginia 22161-0002; http://www.ntis.gov; 1-800-533-6847 or, locally, 703-805-6000.

Copies of these documents are also available for inspection and/or copying for a fee in the NRC Public Document Room, 11555 Rockville Pike, Rockville, Maryland. As of November 1, 1999, you may also electronically access NUREG-series publications and other NRC records at NRC's Public Electronic Reading Room at http://www.nrc.gov/reading-rm.html.

A free single copy of these NUREG documents, to the extent of supply, may be requested by writing to Office of the Chief Information Officer, Reproduction and Distribution Services Section, U.S. Nuclear Regulatory Commission, Printing and Graphics Branch, Washington, DC 20555-0001; facsimile: 301-415-2289; e-mail: DISTRIBUTION@nrc.gov.

Some publications in the NUREG series that are posted at NRC's Web site address http://www.nrc.gov/NRC/NUREGS/indexnum.html are updated regularly and may differ from the last printed version.

FOR FURTHER INFORMATION CONTACT: James P. Bongarra, Jr., Division of Inspection Program Management, Office of Nuclear Reactor Regulation, U.S. Nuclear Regulatory Commission, Washington, DC 20555-0001. Telephone: 301-415-1046. E-mail: JXB@nrc.gov.

SUPPLEMENTARY INFORMATION: On September 1, 2004 (69 FR 53472-53473), NRC announced the availability of the two NUREG documents, and requested comments on them. The NRC staff considered all of the comments, including constructive suggestions to improve the documents, in the preparation of the revised NUREG documents.

The final versions of the two NUREG documents are now available for use by applicants, licensees, NRC reviewers, and other NRC staff. The new revision of the Standard Review Plan supersedes the previous version of that document.

Small Business Regulatory Enforcement Fairness Act

In accordance with the Small Business Regulatory Enforcement Fairness Act of 1996, the NRC has determined that this action is not a major rule and has verified this determination with the Office of Information and Regulatory Affairs of the Office of Management and Budget.

Note: The Small Business Regulatory Enforcement Fairness Act statement is not used for draft NUREGs. The law applies only to final agency actions.

Dated at Rockville, Maryland, this 19th day of August, 2005.
For the Nuclear Regulatory Commission.
Patrick L. Hiland,
Chief, Reactor Operations Branch, Division of Inspection Program Management, Office of Nuclear Reactor Regulation.

[FR Doc. E5-4680 Filed 8-25-05; 8:45 am]

BILLING CODE 7590-01-P